SMALL BUSINESS ADMINISTRATION

Small Business Investment Companies; Increase in Maximum Leverage Ceiling

13 CFR 107.1150(a) sets forth the maximum amount of Leverage (as defined in 13 CFR 107.50) that a Small Business Investment Company may have outstanding at any time. The maximum Leverage amounts are adjusted annually based on the increase in the Consumer Price Index published by the Bureau of Labor Statistics. The cited regulation states that SBA will publish the indexed maximum Leverage amounts each year in a Notice in the Federal Register.

Accordingly, effective the date of publication of this Notice, and until further notice, the maximum Leverage amounts under 13 CFR 107.1150(a) are as stated in the following table:

If your leverageable capital is: | Then your maximum leverage is:
(1) Not over $19,800,000 | 300 percent of Leverageable Capital.
(2) Over $19,800,000 but not over $39,700,000 | $59,400,000 + [2 × (Leverageable Capital − $19,800,000)].
(3) Over $39,700,000 but not over $59,500,000 | $99,200,000 + (Leverageable Capital − $39,700,000).
(4) Over $59,500,000 | $119,000,000.

(Catalog of Federal Domestic Assistance Program No. 59.011, small business investment companies)

Dated: November 10, 2004.
Harry Haskins,
Acting Associate Administrator for Investment.

[FR Doc. 04-25509 Filed 11-16-04; 8:45 am]

BILLING CODE 8025-01-P